DEPARTMENT OF ENERGY

Office of Science Financial Assistance Program Notice 02-07; Atmospheric Radiation Measurement Program—Extension of Due Date

AGENCY: Department of Energy (DOE).

ACTION: Extension of due date for notice inviting grant applications. The Office of Biological and Environmental Research (OBER), Office of Science (SC), U.S. Department of Energy (DOE), hereby extends the due date for this notice.

Published in 67 FR 1204-1206, January 9, 2002.

The deadline for formal applications has been extended to April 18, 2002.

FOR FURTHER INFORMATION CONTACT: Dr. Wanda Ferrell, Office of Biological and Environmental Research, Environmental Sciences Division, SC-74, U.S. Department of Energy, 19901 Germantown Road, Germantown, MD 20874-1290, telephone (301) 903-0043, fax (301) 903-8519, Internet e-mail address: wanda.ferrell@science.doe.gov.

Issued in Washington, DC on March 20, 2002.
John Rodney Clark,
Associate Director of Science for Resource Management.

[FR Doc. 02-7440 Filed 3-27-02; 8:45 am]

BILLING CODE 6450-02-P